DEPARTMENT OF THE INTERIOR

National Indian Gaming Commission

Fee Rate and Fingerprint Fees

AGENCY: National Indian Gaming Commission, DOI.

ACTION: Notice.

SUMMARY: Notice is hereby given, that the National Indian Gaming Commission has adopted its annual fee rates of 0.00% for tier 1 and 0.062% (.00062) for tier 2, which remain the same as current fee rates. The tier 2 annual fee rate maintains the lowest fee rate of the last nine years. These rates shall apply to all assessable gross revenues from each gaming operation under the jurisdiction of the Commission. If a tribe has a certificate of self-regulation, the fee rate on Class II revenues shall be 0.031% (.00031) which is one-half of the annual fee rate.

The National Indian Gaming Commission has also adopted its fingerprint processing fee of $22 per card effective November 1, 2019. These new fee represent a $4 increase from the current fingerprint processing fee of $18 per card which have been in effect since 10/1/2016. The increase for this year's fingerprint fee is a result of bolstering information security systems and additional measures necessary to ensure compliance with Federal Bureau of Investigation requirements. The annual fee rates and fingerprint fee being adopted here are effective November 1, 2019, and will remain in effect until the Commission adopts new rates and fee.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission.

Pursuant to 25 CFR 514, the Commission must also review regularly the costs involved in processing fingerprint cards and set a fee based on fees charged by the Federal Bureau of Investigation and costs incurred by the Commission. Commission costs include Commission personnel, supplies, equipment costs, and postage to submit the results to the requesting tribe.

Dated: November 1, 2019.
Kathryn C. Isom-Clause,
Vice Chair.
Dated: November 1, 2019.
E. Sequoyah Simermeyer,
Associate Commissioner.

[FR Doc. 2019-24266 Filed 11-6-19; 8:45 am]

BILLING CODE 7565-01-P